DEPARTMENT OF ENERGY

Federal Energy Regulatory Commission

Combined Notice of Filings #1

Take notice that the Commission received the following Complaints and Compliance filings in EL Dockets:

Docket Numbers: EL22-60-000.

Applicants: Coalition of MISO Transmission Customers v. Midcontinent Independent System Operator, Inc.

Description: Complaint of Coalition of MISO Transmission Customers.

Filed Date: 5/26/22.

Accession Number: 20220526-5257.

Comment Date: 5 p.m. ET 6/15/22.

Take notice that the Commission received the following electric rate filings:

Docket Numbers: ER10-3050-009; ER10-3053-009.

Applicants: Whitewater Hill Wind Partners, LLC, Cabazon Wind Partners, LLC.

Description: Supplement to March 3, 2022 Notice of Non-Material Change in Status of Cabazon Wind Partners, LLC, et al.

Filed Date: 5/26/22.

Accession Number: 20220526-5192.

Comment Date: 5 p.m. ET 6/16/22.

Docket Numbers: ER20-2051-003.

Applicants: Niagara Mohawk Power Corporation, New York Independent System Operator, Inc.

Description: Compliance filing: New York Independent System Operator, Inc. submits tariff filing per 35: Niagara Mohawk Order No. 864 Compliance Filing in Response to March 31 Order to be effective 1/27/2020.

Filed Date: 5/27/22.

Accession Number: 20220527-5055.

Comment Date: 5 p.m. ET 6/17/22.

Docket Numbers: ER21-1223-002.

Applicants: Tucson Electric Power Company.

Description: Compliance filing: TEP Order 864 Compliance Filing to be effective 1/27/2020.

Filed Date: 5/27/22.

Accession Number: 20220527-5121.

Comment Date: 5 p.m. ET 6/17/22.

Docket Numbers: ER22-1955-001.

Applicants: Midcontinent Independent System Operator, Inc.

Description: Tariff Amendment: 2022-05-27_Errata to Att FF Upgrades related to Competitive Transmission Process to be effective 7/25/2022.

Filed Date: 5/27/22.

Accession Number: 20220527-5221.

Comment Date: 5 p.m. ET 6/17/22.

Docket Numbers: ER22-1966-000.

Applicants: Arizona Public Service Company.

Description: § 205(d) Rate Filing: Amendment to Rate Schedule Nos. 221 and 222 to be effective 7/26/2022.

Filed Date: 5/26/22.

Accession Number: 20220526-5230.

Comment Date: 5 p.m. ET 6/16/22.

Docket Numbers: ER22-1967-000.

Applicants: Duke Energy Carolinas, LLC.

Description: Tariff Amendment: DEC-WCU RS 545 Cancellation to be effective 7/26/2022.

Filed Date: 5/26/22.

Accession Number: 20220526-5233.

Comment Date: 5 p.m. ET 6/16/22.

Docket Numbers: ER22-1968-000.

Applicants: Midcontinent Independent System Operator, Inc.

Description: § 205(d) Rate Filing: 2022-05-27_SA 2465 Rock Aetna Power-Northern States Power 3rd Revised GIA (G621) to be effective 5/20/2022.

Filed Date: 5/27/22.

Accession Number: 20220527-5022.

Comment Date: 5 p.m. ET 6/17/22.

Docket Numbers: ER22-1969-000.

Applicants: Southwest Power Pool, Inc.

Description: § 205(d) Rate Filing: 3211R4 North Iowa Municipal Electric Cooperative Association NITSA and NOA to be effective 5/1/2022.

Filed Date: 5/27/22.

Accession Number: 20220527-5047.

Comment Date: 5 p.m. ET 6/17/22.

Docket Numbers: ER22-1970-000.

Applicants: PJM Interconnection, L.L.C.

Description: § 205(d) Rate Filing: Original NSA, Service Agreement No. 6482; Queue No. AD1-119 to be effective 4/27/2022.

Filed Date: 5/27/22.

Accession Number: 20220527-5054.

Comment Date: 5 p.m. ET 6/17/22.

Docket Numbers: ER22-1971-000.

Applicants: PJM Interconnection, L.L.C.

Description: Tariff Amendment: Notice of Cancellation Re: SA No. 5420 and 5421 NITSAs among PJM and NRG to be effective 6/1/2022.

Filed Date: 5/27/22.

Accession Number: 20220527-5125.

Comment Date: 5 p.m. ET 6/17/22.

Docket Numbers: ER22-1972-000.

Applicants: Duke Energy Carolinas, LLC.

Description: § 205(d) Rate Filing: DEC-NCEMC SA 210 NITSA to be effective 5/1/2022.

Filed Date: 5/27/22.

Accession Number: 20220527-5132.

Comment Date: 5 p.m. ET 6/17/22.

Docket Numbers: ER22-1973-000.

Applicants: FirstEnergy Service Company, PJM Interconnection, L.L.C.

Description: § 205(d) Rate Filing: FirstEnergy Service Company submits tariff filing per 35.13(a)(2)(iii: ATSI Submits Revised IA No. 3993 to be effective 7/27/2022.

Filed Date: 5/27/22.

Accession Number: 20220527-5145.

Comment Date: 5 p.m. ET 6/17/22.

Docket Numbers: ER22-1974-000.

Applicants: Evergy Kansas Central, Inc.

Description: § 205(d) Rate Filing: Revision, Formula Rate Agreements, Common Stock to be effective 8/1/2022.

Filed Date: 5/27/22.

Accession Number: 20220527-5149.

Comment Date: 5 p.m. ET 6/17/22.

Docket Numbers: ER22-1975-000.

Applicants: Evergy Kansas Central, Inc.

Description: § 205(d) Rate Filing: Update Common Stock Section to be effective 8/1/2022.

Filed Date: 5/27/22.

Accession Number: 20220527-5154.

Comment Date: 5 p.m. ET 6/17/22.

Docket Numbers: ER22-1976-000.

Applicants: Evergy Generating, Inc.

Description: § 205(d) Rate Filing: Revision, Appendix A, Purchase Power Agreement to be effective 8/1/2022.

Filed Date: 5/27/22.

Accession Number: 20220527-5159.

Comment Date: 5 p.m. ET 6/17/22.

Docket Numbers: ER22-1977-000.

Applicants: Otter Tail Power Company.

Description: Tariff Amendment: Notice of Cancellation of Operating Services Agreement No. 57 with DLPU to be effective 3/4/2022.

Filed Date: 5/27/22.

Accession Number: 20220527-5163.

Comment Date: 5 p.m. ET 6/17/22.

Docket Numbers: ER22-1978-000.

Applicants: American Electric Power Service Corporation, PJM Interconnection, L.L.C.

Description: § 205(d) Rate Filing: American Electric Power Service Corporation submits tariff filing per 35.13(a)(2)(iii: AEP Submits IA No. 6385 to be effective 5/1/2022.

Filed Date: 5/27/22.

Accession Number: 20220527-5164.

Comment Date: 5 p.m. ET 6/17/22.

Docket Numbers: ER22-1979-000.

Applicants: El Paso Electric Company.

Description: § 205(d) Rate Filing: Depreciation Rate Update Associated with Rate Schedule No. 18 to be effective 8/1/2022.

Filed Date: 5/27/22.

Accession Number: 20220527-5182.

Comment Date: 5 p.m. ET 6/17/22.

Docket Numbers: ER22-1980-000.

Applicants: Deuel Harvest Wind Energy LLC.

Description: Initial rate filing: Deuel Harvest Wind Reactive Service Tariff Filing to be effective 8/1/2022.

Filed Date: 5/27/22.

Accession Number: 20220527-5185.

Comment Date: 5 p.m. ET 6/17/22.

Docket Numbers: ER22-1981-000.

Applicants: Southwestern Public Service Company.

Description: § 205(d) Rate Filing: SPS-GSEC-RBEC-IA Hartmoore 728—0.0.0 to be effective 7/26/2022.

Filed Date: 5/27/22.

Accession Number: 20220527-5194,

Comment Date: 5 p.m. ET 6/17/22.

Docket Numbers: ER22-1982-000.

Applicants: Great Prairie Wind, LLC.

Description: Baseline eTariff Filing: Great Prairie Wind, LLC Application for Market-Based Rate Authority to be effective 7/27/2022.

Filed Date: 5/27/22.

Accession Number: 20220527-5204.

Comment Date: 5 p.m. ET 6/17/22.

Docket Numbers: ER22-1983-000.

Applicants: Midcontinent Independent System Operator, Inc.

Description: § 205(d) Rate Filing: 2022-05-27_Distribution of ZDB funds for excess auction revenue in PRA to be effective 6/1/2022.

Filed Date: 5/27/22.

Accession Number: 20220527-5215.

Comment Date: 5 p.m. ET 6/17/22.

Docket Numbers: ER22-1984-000.

Applicants: Northern States Power Company, a Minnesota corporation.

Description: § 205(d) Rate Filing: 2022-05-27 NSP-GRE-CIAC-Lena Tap-698-0.0.0 to be effective 5/28/2022.

Filed Date: 5/27/22.

Accession Number: 20220527-5238.

Comment Date: 5 p.m. ET 6/17/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 27, 2022.
Debbie-Anne A. Reese,
Deputy Secretary.

[FR Doc. 2022-11931 Filed 6-2-22; 8:45 am]

BILLING CODE 6717-01-P